NATIONAL AERONAUTICS AND SPACE ADMINISTRATION

48 CFR Parts 1816, 1823, 1832, 1845, and 1852

NASA Federal Acquisition Regulation Supplement

AGENCY: National Aeronautics and Space Administration.

ACTION: Technical amendments.

SUMMARY: NASA is making technical amendments to the NASA FAR Supplement (NFS) to provide needed editorial changes.

DATES: Effective: October 18, 2016.

FOR FURTHER INFORMATION CONTACT: Manuel Quinones, NASA, Office of Procurement, Contract and Grant Policy Division, via email at manuel.quinones@nasa.gov, or telephone (202) 358-2143.

SUPPLEMENTARY INFORMATION:

I. Background

As part of NASA's retrospective review of existing regulations NASA is conducting periodic reviews of the NASA FAR Supplement (NFS) to ensure the accuracy of information disseminated to the acquisition community. This rule makes administrative changes to the NFS to correct typographical errors as well as inadvertent omissions from prior rulemaking actions. A summary of changes follows:

• Section 1816.406-70(c) is revised to correct a typographical error.

• Section 1823.7001(c) is revised by replacing the word “clause” with the word “provision.”

• Section 1832.908 is revised to add a clause prescription inadvertently omitted.

• Section 1845.107-70(e) is revised to replace the word “property” with “equipment” and paragraph (m) is revised to replace the term “NASA owned property” with “NASA real property.”

• Section 1852.217-72 is revised to correct the clause date.

• Section 1852.223-73 is revised to replace the word “clause” with the word “provision.”

• Section 1852.231-71 is revised to correct the clause date.

List of Subject in 48 CFR Parts 1816, 1823, 1832, 1845, and 1852

Government procurement.

Manuel Quinones,
NASA FAR Supplement Manager.

Accordingly, 48 CFR parts 1816, 1823, 1832, 1845, and 1852 are amended as follows:

1. The authority citation for parts 1816, 1823, 1832, and 1852 continues to read as follows:

Authority: 51 U.S.C. 20113(a) and 48 CFR chapter 1.

PART 1816—TYPES OF CONTRACTS

1816.406-70 [Amended]

2. Amend section 1816.406-70(e) by removing the words “in cost an award fee” and adding “in award fee” in its place.

PART 1823—ENVIRONMENT, ENERGY AND WATER EFFICIENCY, RENEWABLE ENERGY TECHNOLOGIES, OCCUPATIONAL SAFETY, AND DRUG-FREE WORKPLACE

1823.7001 [Amended]

3. Amend section 1823.7001(c) by removing the word “clause” and adding word “provision” wherever it occurs.

PART 1832—CONTRACT FINANCING

4. Amend section 1832.908 by adding paragraph (c)(2) to read as follows:

1832.908 Contract clauses.

(c)(2) When the clause at FAR 52.232-25, Prompt Payment, is used in such contracts with the Canadian Commercial Corporation (CCC), insert “17th” in lieu of “30th” in paragraphs (a)(1)(i)(A) and (B) and (a)(1)(ii).

PART 1845—GOVERNMENT PROPERTY

5. The authority citation for part 1845 is revised to read as follows:

Authority: 51 U.S.C. 20113(a) and 48 CFR chapter 1.

1845.107-70 [Amended]

6. Amend section 1845.107-70—

a. In paragraph (e) introductory text, by removing “Government Property” and adding “Government Equipment” in its place; and

b. In paragraph (m), by removing “NASA owned property” and adding “NASA real property” in its place.

PART 1852—SOLICITATION PROVISIONS AND CONTRACT CLAUSES

1852.217-72 [Amended]

7. Amend section 1852.217-72 by removing “MAY 2000” and adding “NOV 2011” in its place.

1852.223-73 [Amended]

8. Amend section 1852.223-73 by removing the word “clause” and adding in its place the word “provision” wherever it occurs.

1852.231-71 [Amended]

9. Amend section 1852.231-71 by removing “MAR 1994” and adding “APR 2015” in its place.

[FR Doc. 2016-25014 Filed 10-17-16; 8:45 am]

BILLING CODE 7510-13-P